DEPARTMENT OF ENERGY

Federal Energy Regulatory Commission

Combined Notice of Filings #1

Take notice that the Commission received the following electric rate filings:

Docket Numbers: ER10-1285-003.

Applicants: Craven County Wood Energy Limited Partnership.

Description: Craven County Wood Energy Limited Partnership submits Notice of Non-Material Change in Status.

Filed Date: 11/15/2012.

Accession Number: 20121115-5173.

Comments Due: 5 p.m. ET 12/6/12.

Docket Numbers: ER12-2676-000.

Applicants: Piedmont Green Power, LLC.

Description: Refund Compliance Report to be effective N/A.

Filed Date: 11/16/12.

Accession Number: 20121116-5122.

Comments Due: 5 p.m. ET 12/7/12.

Docket Numbers: ER13-388-000.

Applicants: Sky River LLC.

Description: Sky River LLC and North Sky River Energy, LLC Shared Facilities Agreement to be effective 11/16/2012.

Filed Date: 11/15/12.

Accession Number: 20121115-5151.

Comments Due: 5 p.m. ET 12/6/12.

Docket Numbers: ER13-390-000.

Applicants: Public Service Company of New Mexico.

Description: Executed Asset Purchase Agreement to be effective 1/15/2013.

Filed Date: 11/16/12.

Accession Number: 20121116-5000.

Comments Due: 5 p.m. ET 12/7/12.

Docket Numbers: ER13-391-000.

Applicants: Pacific Gas and Electric Company.

Description: Notices of Termination for Four PG&E E&P Agreements to be effective 10/24/2012.

Filed Date: 11/16/12.

Accession Number: 20121116-5001.

Comments Due: 5 p.m. ET 12/7/12.

Docket Numbers: ER13-392-000.

Applicants: M&R Energy Resources Corp.

Description: Baseline New to be effective 11/16/2012.

Filed Date: 11/16/12.

Accession Number: 20121116-5003.

Comments Due: 5 p.m. ET 12/7/12.

Docket Numbers: ER13-393-000.

Applicants: PJM Interconnection, L.L.C.

Description: Panther Creek ISA? Original Service Agreement No. 3443 to be effective 10/19/2012.

Filed Date: 11/16/12.

Accession Number: 20121116-5032.

Comments Due: 5 p.m. ET 12/7/12.

Docket Numbers: ER13-394-000.

Applicants: International Transmission Company.

Description: Filing of Executed Agreement in Compliance with ER12-1742 with Modification to be effective 7/10/2012.

Filed Date: 11/16/12.

Accession Number: 20121116-5046.

Comments Due: 5 p.m. ET 12/7/12.

Docket Numbers: ER13-395-000.

Applicants: Safe Harbor Water Power Corporation.

Description: Revision to Safe Harbor Market-Base Rate Tariff to be effective 11/16/2012.

Filed Date: 11/16/12.

Accession Number: 20121116-5058.

Comments Due: 5 p.m. ET 12/7/12.

Docket Numbers: ER13-396-000.

Applicants: PJM Interconnection, L.L.C.

Description: 3rd Quarter 2012 Updates to PJM Operating Agreement and RAA Membership Lists to be effective 9/30/2012.

Filed Date: 11/16/12.

Accession Number: 20121116-5079.

Comments Due: 5 p.m. ET 12/7/12.

Docket Numbers: ER13-397-000.

Applicants: PJM Interconnection, L.L.C.

Description: Amendments to Schedule 12-Appendix re RTEP approved by PJM Board Oct 16, 2012 to be effective 2/14/2013.

Filed Date: 11/16/12.

Accession Number: 20121116-5089.

Comments Due: 5 p.m. ET 12/7/12.

Docket Numbers: ER13-398-000.

Applicants: The Detroit Edison Company.

Description: The Detroit Edison Company submits Informational Report.

Filed Date: 11/9/12.

Accession Number: 20121109-5240.

Comments Due: 5 p.m. ET 11/30/12.

Docket Numbers: ER13-399-000.

Applicants: Southern California Edison Company.

Description: Notice of Cancellation of Letter Agmt SCE Tehachapi Wind Energy Storage Project to be effective 9/8/2012.

Filed Date: 11/16/12.

Accession Number: 20121116-5104.

Comments Due: 5 p.m. ET 12/7/12.

Docket Numbers: ER13-400-000.

Applicants: PacifiCorp.

Description: BPA General Transfer Agreement (East) to be effective 9/22/2010.

Filed Date: 11/16/12.

Accession Number: 20121116-5123.

Comments Due: 5 p.m. ET 12/7/12.

Docket Numbers: ER13-401-000.

Applicants: Southwest Power Pool, Inc.

Description: 607R17 Westar Energy, Inc. NITSA NOAS to be effective 11/1/2012.

Filed Date: 11/16/12.

Accession Number: 20121116-5127.

Comments Due: 5 p.m. ET 12/7/12.

Docket Numbers: ER13-402-000.

Applicants: Smoky Mountain Transmission LLC.

Description: Baseline New Tariff to be effective 11/16/2012.

Filed Date: 11/16/12.

Accession Number: 20121116-5145.

Comments Due: 5 p.m. ET 12/7/12.

Docket Numbers: ER13-403-000.

Applicants: Smoky Mountain Transmission LLC.

Description: Smoky Mountain Transmission LLC submits tariff filing per 35.13(a)(2)(iii: OATT Filing to be effective 11/16/2012.

Filed Date: 11/16/12.

Accession Number: 20121116-5172.

Comments Due: 5 p.m. ET 12/7/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2012.
Nathaniel J. Davis, Sr.,
Deputy Secretary.

[FR Doc. 2012-28548 Filed 11-23-12; 8:45 am]

BILLING CODE 6717-01-P